ENVIRONMENTAL PROTECTION AGENCY

[EPA-HQ-OAR-2014-0229; FRL-9914-10-OAR]

Confidentiality of Business Information Submitted in Compliance Documents for 2014 and Subsequent Model Year Vehicles, Engines and Equipment

AGENCY: Environmental Protection Agency (EPA).

ACTION: Notice; request for comment.

SUMMARY: The Environmental Protection Agency (EPA) is seeking comment on a draft Class Determination regarding the confidentiality of business information submitted in compliance documents for 2014 and subsequent model year vehicles, engines and equipment.

DATES: Comments must be submitted on or before September 5, 2014.

ADDRESSES: Submit your comments referencing Docket ID No. EPA-HQ-OAR-2014-0229 online using www.regulations.gov (our preferred method), by email to pugliese.holly@epa.gov or by mail to: EPA Docket Center, Environmental Protection Agency, Mailcode 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan, 48105; telephone number: 734-214-4288; fax number: 734-214-4869; email address: pugliese.holly@epa.gov.

SUPPLEMENTARY INFORMATION: EPA's Office of General Counsel (OGC) issues class determinations to describe the categories of business information submitted to the Agency that can be considered confidential and when and if such information can be released to the public when disclosure is requested under the Freedom of Information Act (“FOIA” or “the Act”). On March 28, 2013, OGC issued “Class Determination 1-13, Confidentiality of Business Information Submitted in Certification Applications for 2013 and Subsequent Model Year Vehicles, Engines and Equipment” (www.epa.gov/ogc/documents/1-13.pdf ). Class Determination 1-13 addresses the information submitted to the Compliance Division (CD) in EPA's Office of Transportation and Air Quality (OTAQ) by vehicle, engine, and equipment manufacturers for the purpose of obtaining certificates of conformity which are required before a manufacturer can legally sell vehicles, engines, or equipment in the United States.

As a follow-up to that class determination, OGC will be issuing a new class determination that will address the confidentiality of business information submitted in compliance reports for 2014 and subsequent model year vehicles, engines and equipment. This class determination will apply prospectively for 2014 and subsequent model year vehicles, engines and equipment regulated by OTAQ and covers information that is submitted by manufacturers to satisfy post-certification compliance reporting requirements as required by applicable Clean Air Act regulatory requirements. A copy of the draft class determination can be found under Docket ID No. EPA-HQ-OAR-2014-0229 at www.regulations.gov.

For the class determination covering certification information, EPA solicited comment directly from manufacturers through trade associations. However, because this is the first class determination issued by EPA that addresses compliance documents and information, EPA believes that a more formal approach is appropriate. EPA will review all comments submitted to the docket and will issue the final class determination later this year.

Dated: July 15, 2014.
Byron J. Bunker,
Director, Compliance Division, Office of Transportation and Air Quality.

[FR Doc. 2014-17240 Filed 7-21-14; 8:45 am]

BILLING CODE 6560-50-P